DEPARTMENT OF ENERGY

[OE Docket No. PP-481-1]

Application To Amend Presidential Permit; CHPE LLC

AGENCY: Office of Electricity, Department of Energy.

ACTION: Notice of application.

SUMMARY: CHPE LLC (Applicant or CHPE) has filed a supplement to its application to amend Presidential Permit No. PP-481. CHPE LLC seeks to further amend its permit application to allow for certain modifications to the previously permitted project.

DATES: Comments, protests, or motions to intervene must be submitted on or before March 31, 2021.

ADDRESSES: Comments or motions to intervene should be addressed to Christopher Lawrence, Christopher.Lawrence@hq.doe.gov.

FOR FURTHER INFORMATION CONTACT: Christopher Lawrence (Program Office) at 202-586-5260 or by email to Christopher.Lawrence@hq.doe.gov, or Christopher Drake (Attorney-Adviser) at 202-586-2919 or by email to Christopher.Drake@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On September 25, 2020, CHPE filed an application with the Office of Electricity of the Department of Energy (DOE), as required by regulations at 10 CFR 205.320 et seq., requesting that DOE amend Presidential Permit No. PP-481 to allow for changes in the route previously permitted (Amendment Application). Notice of that application was published in the Federal Register on October 5, 2020 (85 FR 62,721).

On January 15, 2021, CHPE filed a supplement to its Amendment Application asking DOE to amend Presidential Permit No. PP-481 to increase the capacity of the proposed Project from 1,000 megawatts (MW) to 1,250 MW. Since the filing of the Amendment Application last September, the New York Independent System Operator (NYISO) completed a System Reliability Impact Study (SRIS) that assessed the potential impact of increasing the Project's transmission capacity from 1,000 MW to 1,250 MW. The SRIS determined that the Project can interconnect and operate at 1,250 MW without adversely affecting the reliability of the interstate transmission grid. In addition to the completed SRIS, an expert retained by CHPE completed an analysis of the potential impacts of operating a 1,250 MW transmission line. This analysis, which addressed magnetic fields, compass deviations, and thermal cable losses, determined that there would be no material change in impacts beyond those identified for the permitted 1,000 MW project.

Procedural Matters: Any person may comment on this application by filing such comment at the address provided above. Any person seeking to become a party to this proceeding must file a motion to intervene at the address provided above in accordance with Rule 214 of the Federal Energy Regulatory Commission's Rules of Practice and Procedure (18 CFR 385.214). Each comment or motion to intervene should be filed with DOE on or before the date listed above.

Comments and other filings concerning this application should be clearly marked with OE Docket No. PP-481-1. Additional copies are to be provided directly to Mr. Donald Jessome, Chief Executive Officer, Transmission Developers Inc., Pieter Schuyler Building, 600 Broadway, Albany, New York 12207-2283, donald.jessome@transmissiondevelopers.com and Jay Ryan, Baker Botts LLP, 700 K Street NW, Washington, DC 20001, jay.ryan@bakerbotts.com.

Before a Presidential permit may be issued or amended, DOE must determine that the proposed action is in the public interest. In making that determination, DOE will consider the environmental impacts of the proposed action (i.e., granting the Presidential permit or amendment, with any conditions and limitations, or denying the permit), determine the proposed project's impact on electric reliability by ascertaining whether the proposed project would adversely affect the operation of the U.S. electric power supply system under normal and contingency conditions, and weigh any other factors that DOE may also consider relevant to the public interest. DOE also must obtain the favorable recommendation of the Secretary of State and the Secretary of Defense before taking final action on a Presidential permit application.

This application may be reviewed or downloaded electronically at http://energy.gov/oe/services/electricity-policy-coordination-and-implementation/international-electricity-regulatio-2. Upon reaching the home page, select “Pending Applications.”

Signed in Washington, DC, on February 23, 2021.
Christopher Lawrence,
Management and Program Analyst, Energy Resilience Division, Office of Electricity.

[FR Doc. 2021-04078 Filed 2-26-21; 8:45 am]

BILLING CODE 6450-01-P